SECURITIES AND EXCHANGE COMMISSION

Issuer Delisting; Notice of Application To Withdraw From Listing and Registration; (CyberSentry, Inc., Common Stock, $.001 Par Value) File No. 1-15871

October 25, 2000.

CyberSentry, Inc., a Delaware corporation (“Company”), has filed an application with the Securities and Exchange Commission (“Commission”), pursuant to section 12(d) of the Securities Exchange Act of 1934 (“Act”) ¹ and Rule 12d2-2(d) thereunder,² to withdraw its Common Stock, $.001 par value (“Security”), from listing and registration on the American Stock Exchange LLC (“Amex”).

¹ 15 U.S.C. 78l(d).

² 17 CFR 240.12d2-2(d).

The Amex halted trading in the Security on September 8, 2000, because of concerns about the company's ability to meet the Amex's continued listing maintenance requirements. As a result of preliminary discussions held with the Amex, the Company determined to voluntarily withdraw its Security from listing and registration on the Amex and to arrange for its quotation in the unlisted over-the-counter market. As of the date on which the Company filed its application with the Commission, the Company had not effected a new listing or quotation for its Security. The Company has stated in its application that its Board of Directors has authorized the Company to take actions necessary to become quoted in the unlisted over-the-counter market.

The Company has stated in its application that it has complied with the rules of the Amex governing the withdrawal of its Security and that its application relates solely to the withdrawal of the Security from listing and registration on the Amex and shall have no effect upon the Security's continued registration under section 12(g) of the Act.³

³ 15 U.S.C. 78l(g).

Any interested person may, on or before November 16, 2000, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the commission, by the Division of Market Regulation, pursuant to delegated authority. ⁴
⁴ 17 CFR 200.30-3(a)(1).
Jonathan K. Katz,
Secretary.

[FR Doc. 00-27912 Filed 10-03-00; 8:45 am]

BILLING CODE 8010-01-M